DEPARTMENT OF ENERGY

Federal Energy Regulatory Commission

[Docket No. RP02-186-000]

Vector Pipeline L.P.; Notice of Proposed Changes in FERC Gas Tariff

March 7, 2002.

Take notice that on February 28, 2002, Vector Pipeline L.P. (Vector), tendered for filing as part of its FERC Gas Tariff, Original Volume No. 1, the tariff sheets listed on Appendix A to the filing, to become effective April 1, 2002.

Vector states that the purpose of this filing is to make editorial-type changes to its existing tariff, revise and amend various provisions of its tariff to reflect operating experience, amend certain provisions in the tariff to reflect new Commission policy, and to add a new Website Access Agreement Vector states that it is proposing revised tariff sheets which reflect changes to make editorial type corrections, to revise and update sections of its tariff based on operating experience, to accommodate changes in Commission policy, and in order to reflect Vector's current corporate headquarters. In addition, Vector asserts that it is adding a Website Access Agreement form.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6004 Filed 3-12-02; 8:45 am]

BILLING CODE 6717-01-P